FEDERAL COMMUNICATIONS COMMISSION

47 CFR Part 64

[CC Docket No. 98-67, CG Docket No. 03-123; DA 05-339]

Federal Communications Commission Seeks Additional Comment on the Speed of Answer Requirement for Video Relay Service (VRS)

AGENCY: Federal Communications Commission.

ACTION: Proposed rule; comments requested.

SUMMARY: This document seeks public comment on a speed of answer requirement for the provision of Video Relay Service (VRS). The speed of answer requirement is currently waived as a mandatory minimum standard for VRS. The Federal Communications Commission (Commission) has reviewed the comments provided in response to the Further Notice of Proposed Rulemaking (FNPRM) contained in the 2004 TRS Report and Order, and found that they lack specificity on certain elements of a speed of answer rule. In this document, the Commission is seeking additional comment on whether a speed of answer rule should be adopted for VRS and, if so, what the rule should be.

DATES: Interested parties may file comments in this proceeding on or before February 25, 2005. Reply comments may be filed on or before March 4, 2005.

ADDRESSES: Federal Communications Commission, 445 12th Street, SW., Washington, DC 20554.

FOR FURTHER INFORMATION CONTACT: Dana Jackson, Consumer & Governmental Affairs Bureau, Disability Rights Office at (202) 418-2247 (voice), (202) 418-7898 (TTY), or e-mail at Dana.Jackson@fcc.gov.

SUPPLEMENTARY INFORMATION: This is a summary of the Commission's document DA 05-339, released February 8, 2005. When filing comments, please reference CC Docket No. 98-67 and CG Docket No. 03-123. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. Generally, only one copy of an electronic submission must be filed. If multiple docket or rulemaking numbers appear in the caption of this proceeding, however, commenters must transmit one electronic copy of the comment and reply comment to each docket or rulemaking number referenced in the caption. In completing the transmittal screen, commenters should include their full name, Postal Service mailing address, and the applicable docket or rulemaking number. Parties may also submit electronic comments and reply comments by Internet e-mail. To get filing instructions, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. Filings can be sent by hand or messenger delivery, by electronic media, by commercial overnight courier, or by first-class or overnight U.S. Postal Services mail (although we continue to experience delays in receiving U.S. Postal Service mail). The Commission's contractor, Natek, Inc., will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204 Washington, DC 20554. Parties who choose to file by paper should also submit their comment and reply comments on diskette. These diskettes should be submitted, along with three paper copies, to: Dana Jackson, Consumer & Governmental Affairs Bureau, Disability Rights Office, 445 12th Street, SW., Room CY-C417, Washington, DC 20554. Such a submission should be on a 3.5 inch diskette formatted in an IBM compatible format using Word 97 or compatible software. The diskette should be accompanied by a cover letter and should be submitted in “read only” mode. The diskette should be clearly labeled with the commenter's name, proceeding (including the lead docket number in this case, CC Docket No 98-67 and CG Docket No. 03-123, type of pleading (comment and reply comment), date of submission, and the name of the electronic file on the diskette. The label should also include the following phrase “Disk Copy—Not an Original.” Each diskette should contain only one party's pleadings, preferably in a single electronic file. In addition, commenters must send diskette copies to the Commission's copy contractor, Best Copy and Printing (BCPI), Inc., Portals II, 445 12th Street, SW., Room CY-B402, Washington, DC 20554. Pursuant to section 1.1206 of the Commission's rules, 47 CFR 1.1206, this proceeding will be conducted as a permit-but-disclose proceeding in which ex parte communications are subject to disclosure. The full text of this document and copies of any subsequently filed documents in this matter will be available for public inspection and copying during regular business hours at the FCC Reference Information Center, Portals II, 445 12th Street, SW., Room CY-A257, Washington, DC 20554. This document and copies of subsequently filed documents in this matter may also be purchased from the Commission's duplicating contract, BCPI, Inc., Portals II, 445 12th Street, SW., Room CY-B402, Washington, DC 20554. Customers may contact BCPI, Inc. at their Web site http://www.bcpiweb.com or call 1-800-378-3160. To request materials in accessible formats for people with disabilities (Braille, large print, electronic files, audio format), send an e-mail to fcc504@fcc.gov or call the Consumer & Governmental Affairs Bureau at (202) 418-0530 (voice), (202) 418-0432 (TTY). This public notice can also be downloaded in Word or Portable Document Format (PDF) at: http://www.fcc.gov/cgb/dro.

Synopsis

On June 30, 2004, the Federal Communications Commission (Commission) released the 2004 TRS Report & Order, which contained a Further Notice of Proposed Rulemaking (FNPRM) seeking comment on, among other things, a speed of answer requirement for the provision of Video Relay Service (VRS). See Telecommunications Relay Services and Speech-to-Speech Services for Individuals with Hearing and Speech Disabilities, Report and Order, Order on Reconsideration, and Further Notice of Proposed Rulemaking (2004 TRS Report & Order), CC Dockets 90-571 and 98-67 and CG Docket 03-123, FCC 04-137; published at 69 FR 53346 and 69 FR 53382, September 1, 2004. VRS is a form of telecommunications relay service (TRS) that allows persons with hearing and speech disabilities to communicate with the TRS communications assistants (CA) in video through sign language, rather than typed text. The term telecommunications relay service means “telephone transmission services that provide the ability for an individual who has a hearing or speech disability to engage in communications by wire or radio with a hearing individual in a manner that is functionally equivalent to the ability of an individual who does not have a hearing or speech disability to communicate using voice communication services by wire or radio.” 47 U.S.C. 225 (a)(3); see generally 2004 TRS Report & Order at paragraph 3 n.18. The Commission reviewed comments provided in response to the FNPRM, and found that they lacked specificity on certain elements of a speed of answer rule. Therefore, the Commission is seeking additional comment on whether a speed of answer rule should be adopted for VRS, and the following specific points:

(1) What should the speed of answer time be for VRS calls? What percentage of VRS calls should be required to be answered within that period of time?

(2) When should a particular speed of answer rule be effective? Should VRS speed of answer standards be phased in over time? If so, how should the standards be phased in (i.e., what standards should apply at what points in time)?

(3) What should be the starting and ending points for measuring speed of answer? We note, for example, that in the IP Declaratory Ruling, we stated that for IP Relay “we will consider the call delivered to the IP Relay center when the IP Relay center's equipment accepts the call from the Internet.” See Improved Telecommunications Relay Services and Speech-to-Speech Services for Individuals with Hearing and Speech Disabilities, Declaratory Ruling and Second Further Notice of Proposed Rulemaking (IP Declaratory Ruling), CC Docket 98-67, FCC 02-121; published at 67 FR 39863 and 67 FR 39929, June 11, 2002. The Commission seeks comment on how we should articulate the starting period from which speed of answer can be measured for each call so that all providers are measuring speed of answer in the same manner.

(4) How should “abandoned” calls be treated in determining a provider's compliance with a speed of answer standard? The Commission notes that the TRS regulations presently require that abandoned calls be included in the speed of answer calculation. See 47 CFR 64.604 (b)(2)(ii)(B); see also Telecommunications Relay Services and Speech-to-Speech Services for Individuals with Hearing and Speech Disabilities, Report and Order and Further Notice of Proposed Rulemaking, (Improved TRS Order), CC Docket 98-67, FCC 00-56; published at 65 FR 38432 and 65 FR 38490, June 21, 2000 (addressing abandoned calls and explaining that such calls are those calls answered by a relay center, but never handled by a CA because the customer hangs up). Should the same rule apply to VRS and abandoned calls? If not, what other rule should apply to the treatment of abandoned calls?

(5) How should “call backs”—i.e., calls where the consumer elects to have the provider call the consumer back when a VRS CA becomes available to place the call, rather than have the consumer wait for the next available CA—be treated in the speed of answer calculation? See Federal Communications Commission Clarifies that Certain Telecommunications Relay Services (TRS) Marketing and Call Handling Practices are Improper and Reminds that Video Relay Service (VRS) May not be Used as a Video Remote Interpreting Service, Public Notice, CC Docket No. 98-67, CG Docket No. 03-123; DA 05-141 at 4 & n.16 (January 26, 2005) (addressing certain kinds of “call back” arrangements). Should, for example, such “call backs” be treated as abandoned calls? Should such “call backs” be prohibited once a speed of answer rule is adopted for VRS?

(6) Should a provider's compliance with a speed of answer rule be measured on a daily or monthly basis? (The current speed of answer rule applicable to the other forms of TRS provides that compliance with the speed of answer rule shall be measured on a daily basis.) See 47 CFR 64.604 (b)(2)(ii)(C). Or should it be measured on some other basis?

(7) In connection with the adoption of a speed of answer requirement for VRS, should providers be required to submit reports to the Commission detailing call data reflecting their compliance with the speed of answer rule, and if so, how frequently should such reports be filed (e.g., monthly, quarterly or semi-annually)?

We also seek comment on any other issues relating to the possible adoption of a speed of answer rule for VRS.

Federal Communications Commission.
Jay Keithley,
Deputy Chief, Consumer & Governmental Affairs Bureau.

[FR Doc. 05-4347 Filed 3-4-05; 8:45 am]

BILLING CODE 6712-01-P